DEPARTMENT OF ENERGY

[OE Docket No. PP-398]

Application for Presidential Permit; Great Northern Transmission Line

AGENCY: Office of Electricity Delivery and Energy Reliability, DOE.

ACTION: Notice of application.

SUMMARY: Minnesota Power, an operating division of ALLETE, Inc., has applied for a Presidential permit to construct, operate, maintain, and connect an electric transmission line across the United States border with Canada.

DATES: Comments or motions to intervene must be submitted on or before June 13, 2014.

ADDRESSES: Comments or motions to intervene should be addressed as follows: Office of Electricity Delivery and Energy Reliability (OE-20), U.S. Department of Energy, 1000 Independence Avenue SW., Washington, DC 20585.

FOR FURTHER INFORMATION CONTACT: Christopher Lawrence (Program Office) at 202-586-5260 or via electronic mail at Christopher.Lawrence@hq.doe.gov, Katherine Konieczny (Program Attorney) at 202-586-0503.

SUPPLEMENTARY INFORMATION: The construction, operation, maintenance, and connection of facilities at the international border of the United States for the transmission of electric energy between the United States and a foreign country is prohibited in the absence of a Presidential permit issued pursuant to Executive Order (EO) 10485, as amended by EO 12038.

On April 15, 2014, Minnesota Power filed an application with the Office of Electricity Delivery and Energy Reliability of the Department of Energy (DOE) for a Presidential permit. Minnesota Power has its principal place of business in Duluth, Minnesota. Minnesota Power is an investor-owned utility and provides retail electric service to 144,000 customers and wholesale electric service to 16 municipalities and several industrial customers.

Minnesota Power proposes to construct and operate the Great Northern Transmission Line (GNTL), a 500 kilovolt (kV) overhead alternating current (AC) electric transmission line that would originate at the Dorsey Substation northwest of Winnipeg, Manitoba, Canada, and terminate at the existing Blackberry Substation east of Grand Rapids, Minnesota. The proposed GNTL facilities would be capable of transmitting up to 750 megawatts (MW) of power.

The Minnesota portion of the proposed Great Northern Transmission Line (GNTL) would cross the U.S.-Canada border northwest of the town of Roseau, Minnesota, and would run 220 miles before terminating at the Blackberry Substation.

As proposed, GNTL is a high voltage alternating current (HVAC) electric transmission line with an expected power transfer rating of at least 750 MW. The northern terminal would be at the Dorsey Substation located 10 miles northwest of Winnipeg, Manitoba, Canada. The southern terminal would be at the existing Blackberry 230/115 kV Substation near Grand Rapids, Minnesota. The Blackberry Substation would be expanded to include the 500 kV Substation to accommodate the 500 kV GNTL, 500/230 kV transformation, existing 230 kV lines and all associated equipment.

In its application, Minnesota Power identified two routing options, the Orange Route and the Blue Route, for the GNTL. In addition, Minnesota Power also presented several segment options. Each route option would run for approximately 220 miles within the United States. Minnesota Power has entered into a 250 MW Power Purchase Agreement (PPA) as well as an additional 133 MW Renewable Optimization Agreement with Manitoba Hydro.

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the Federal Power Act and articulated in Federal Energy Regulatory Commission (FERC) Order No. 888 (Promoting Wholesale Competition Through Open Access Non-Discriminatory Transmission Services by Public Utilities; FERC Stats. & Regs. ¶31,036 (1996)), as amended. In furtherance of this policy, DOE invites comments on whether it would be appropriate to condition any Presidential permit issued in this proceeding on compliance with these open access principles.

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: David Moeller, Senior Attorney, Minnesota Power, 30 West Superior St., Duluth, MN 55802, dmoeller@allete.com AND Mike Donahue, Project Manager, Minnesota Power, 30 West Superior St., Duluth, MN 55802, mdonahue@allete.com AND Jim Atkinson, Environmental Manager, Minnesota Power, 30 West Superior St., Duluth, MN 55802, jbatkinson@allete.com.

Before a Presidential permit may be issued or amended, DOE must determine that the proposed action is in the public interest. In making that determination, DOE considers the environmental impacts of the proposed project pursuant to the National Environmental Policy Act of 1969, determines the project's impact on electric reliability by ascertaining whether the proposed project would adversely affect the operation of the U.S. electric power supply system under normal and contingency conditions, and any other factors that DOE may also consider relevant to the public interest. Also, DOE must obtain the concurrences of the Secretary of State and the Secretary of Defense before taking final action on a Presidential permit application.

Copies of this application will be made available, upon request, for public inspection and copying at the address provided above, by accessing the program Web site at http://energy.gov/oe/services/electricity-policy-coordination-and-implementation/international-electricity-regulatio-2.

Issued in Washington, DC, on May 8, 2014.
Christopher A. Lawrence,
Electricity Policy Analyst, National Electricity Delivery Division, Office of Electricity Delivery and Energy Reliability.

[FR Doc. 2014-11108 Filed 5-13-14; 8:45 am]

BILLING CODE 6450-01-P